DEPARTMENT OF DEFENSE

Department of the Navy

Notice of Extension of Public Comment Period for Draft Environmental Impact Statement for the Proposed Homeporting of Additional Surface Ships at Naval Station Mayport, Florida

AGENCY: Department of Navy, DoD.

ACTION: Notice.

SUMMARY: Under the National Environmental Policy Act, the U.S. Environmental Protection Agency published a notice of availability on March 28, 2008 in the Federal Register (FR Doc. E8-6424, page 16672) for the Draft Environmental Impact Statement (Draft EIS) for Mayport Naval Station Project, Proposed Homeporting of Additional Surface Ships, Several Permits, Mayport (EIS No. 20080103). This notice announces the extension of the public comment period from May 12, 2008 to May 27, 2008.

FOR FURTHER INFORMATION CONTACT: Mr. Will Sloger, Naval Facilities Engineering Command Southeast, telephone: (843) 820-5797.

SUPPLEMENTARY INFORMATION: Comments on the Mayport Draft EIS should be addressed to Mr. Will Sloger, Naval Facilities Engineering Command Southeast, P.O. Box 190010, North Charleston, South Carolina 29419-9010; telephone: (843) 820-5797. Comments must be postmarked not later than May 27, 2008 to ensure they become part of the official record. All comments will be addressed in the Final EIS.

An electronic copy of the Draft EIS is also available for public viewing at http://www.MayportHomeportingEIS.com.

Dated: April 29, 2008.
T.M. Cruz,
Lieutenant, Judge Advocate General's Corps, U.S. Navy, Federal Register Liaison Officer.

[FR Doc. E8-9707 Filed 5-1-08; 8:45 am]

BILLING CODE 3810-FF-P